DEPARTMENT OF TRANSPORTATION

Federal Aviation Administration

Notice of Opportunity for Public Comment on Release of Airport Property Acquired With Airport Improvement Program (AIP) Assistance at the Prattville Grouby Field Airport, Prattville, Alabama.

AGENCY: Federal Aviation Administration, DOT.

ACTION: Notice of intent to rule on land release request.

SUMMARY: The FAA is considering a request from the Prattville Airport Authority to waive the requirement that 1.35± acres of airport property located at the Prattville Grouby Field Airport in Prattville, Alabama, be used for airport development.

DATES: Comments must be received on or before April 20, 2020.

ADDRESSES: Comments on this notice may be mailed or delivered in triplicate to the FAA to the following address: Jackson Airports District Office Attn: Luke Flowers, Program Manager, 100 West Cross Street, Suite B, Jackson, MS 39208-2307.

In addition, one copy of any comments submitted to the FAA must be mailed or delivered to Prattville Grouby Field Airport, Attn: Mr. Paul Gardner, Chairman, Prattville Airport Authority, 1450 Aviation Way, Prattville, AL 36067.

FOR FURTHER INFORMATION CONTACT: Luke Flowers, Program Manager, Jackson Airports District Office, 100 West Cross Street, Suite B, Jackson, MS 39208-2307, (601) 664-9898. The land release request may be reviewed in person at this same location.

SUPPLEMENTARY INFORMATION: The FAA is reviewing a request by the Prattville Airport Authority to release approximately 1.35 acres, more or less of airport property (portion of Exhibit A parcel 27) at Prattville Grouby Field Airport (1A9) under the provisions of Title 49, U.S.C. Section 47107(h)(2). The sale of the subject property will result in the land at Prattville Grouby Field Airport (1A9) being released from the conditions of the Airport Improvement Program Grant Agreement Grant Assurances. The FAA determined that the request to release property at Prattville Grouby Field Airport (1A9) submitted by the Sponsor meets the procedural requirements of the Federal Aviation Administration and the release of the property does not and will not impact future aviation needs at the airport. The FAA may approve the request, in whole or in part, no sooner than thirty days after the publication of this notice. The 1.35± acres of property is not contiguous to the airfield or located within the runway protection zone and located on the east quadrant of airport property adjacent to Autauga County Highway 29. A deed restriction or easement for obstruction clearing will remain on the 1.35± acres. In accordance with 49 U.S.C. 47107(c)(2)(B)(i) and (iii), the airport will receive fair market value for the property, which will be subsequently reinvested in another eligible airport improvement project at Prattville Grouby Field Airport (1A9).

Any person may inspect the request in person at the FAA office listed above under FOR FURTHER INFORMATION CONTACT. In addition, any person may, upon request, inspect the request, notice and other documents germane to the request in person at the Prattville Grouby Field Airport (1A9).

Issued in Jackson, Mississippi on March 3, 2020.
William J. Schuller,
Acting Manager, Jackson Airports District Office Southern Region.

[FR Doc. 2020-05922 Filed 3-19-20; 8:45 am]

BILLING CODE 4910-13-P